DEPARTMENT OF JUSTICE

Antitrust Division

Notice Pursuant to the National Cooperative Research and Production Act of 1993—National Center for Manufacturing Sciences, Inc.

Notice is hereby given that, on February 4, 2009, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, A&P Technology, Inc., Cincinnati, OH; Analex Corporation, Fairfax, VA; Assembly Guidance Systems, Inc., Chelmsford, MA; Automated Precision, Inc., Rockville, MD; Bayer MaterialScience LLC, Pittsburgh, PA; Clean Diesel Technologies, Inc., Stamford, CT; Henry Ford Health System, Detroit, MI; Intelli-Check—Mobilisa, Inc., Alexandria, VA; MDS-PRAD Technologies Corporation, Inc., Slemon Park, Prince Edward Island, CANADA; Steinbichler Optotechnik Gmbh, Neubeuern, GERMANY; and Raytheon Company, McKinney, TX have been added as parties to this venture. Also, Adam Aircraft Industries, Englewood, CO; Advanced Technology Services, Inc., Peoria, IL; Bosch Rexroth Corporation, Hoffman Estates, IL; Chrysler Corporation, Auburn Hills, MI; Clockwork Solutions, Inc., Austin, TX; Decagon Devices, Inc., Pullman, WA; DEKA Research & Development Corporation, Manchester, NH; Dimensional Photonics International, Inc., Wilmington, MA; Ethereal Technologies, Inc., Ann Arbor, MI; ExOne Company, Irwin, PA; Extrude Hone Corporation, Irwin, PA; Freundenberg-NOK General Partnership, Plymouth, MI; General Motors Corporation, Warren, MI; Hardinge Inc., Elmira, NY; Millennium Cell Inc., Eatontown, NJ; Moore Tool Company, Bridgeport, CT; MTI Micro Fuel Cells Inc., Albany, NY; Proto Manufacturing Inc., Ypsilanti, MI; Protonex Technology Corporation, Southborough, MA; Pukoa Scientific, LLC, Oviedo, FL; Purdue University, West Lafayette, IN; SCRA, N. Charleston, SC; SFC Smart Fuel Cell AG, Brunnthal, GERMANY; Smiths Detection Danbury, Danbury, CT; STEP Tools, Inc., Troy, NY; Systems Documentation Inc., South Plainfield, NJ; TransCanada CNG Technologies Ltd., Calgary, Alberta, CANADA; VCD Technologies, LLC, San Dimas, CA; and Waterjet Tech Inc., St. Louis, MO have withdrawn as parties to this venture.

In addition, Radian Tool & Engineering has changed its name to Radian Precision, Troy, MI.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department on November 14, 2007. A notice was published in the Federal Register pursuant to Section 6(b) of the Act on February 20, 2008 (73 FR 9357).

Patricia A. Brink,
Deputy Director of Operations, Antitrust Division.

[FR Doc. E9-6375 Filed 3-25-09; 8:45 am]

BILLING CODE 4410-11-M